DEPARTMENT OF LABOR

Employment and Training Administration

[TA-W-74,489]

Warner Chilcott Pharmaceuticals, Inc. Including On-Site Leased Workers From Adecco Engineering and Technical, Norwich, New York; Amended Certification Regarding Eligibility To Apply for Worker Adjustment Assistance

In accordance with Section 223 of the Trade Act of 1974, as amended (“Act”), 19 U.S.C. 2273, the Department of Labor issued a Certification of Eligibility to Apply for Worker Adjustment Assistance on September 10, 2010, applicable to workers of Warner Chilcott Pharmaceuticals, Inc., Norwich, New York. The notice was published in the Federal Register on September 23, 2010 (75 FR 57982).

At the request of a petitioner, the Department reviewed the certification for workers of the subject firm. The workers were engaged in employment related to the supply of pharmaceutical research and development services.

The company reports that workers leased from Adecco Engineering and Technical were employed on-site at the Norwich, New York location of Warner Chilcott Pharmaceuticals, Inc. The Department has determined that these workers were sufficiently under the control of the subject firm to be considered leased workers.

Based on these findings, the Department is amending this certification to include workers leased from Adecco Engineering and Technical working on-site at the Norwich, New York location of Warner Chilcott Pharmaceuticals, Inc.

The amended notice applicable to TA-W-74,489 is hereby issued as follows:

All workers of Warner Chilcott Pharmaceuticals, Inc., including on-site leased workers from Adecco Engineering and Technical, Norwich, New York, who became totally or partially separated from employment on or after August 6, 2009, through September 10, 2012, and all workers in the group threatened with total or partial separation from employment on the date of certification through two years from the date of certification, are eligible to apply for adjustment assistance under Chapter 2 of Title II of the Trade Act of 1974, as amended.

Signed at Washington, DC this 8th day of October 2010.
Elliott S. Kushner,
Certifying Officer, Division of Trade Adjustment Assistance.

[FR Doc. 2010-26017 Filed 10-14-10; 8:45 am]

BILLING CODE 4510-FN-P